DEPARTMENT OF VETERANS AFFAIRS

Funding Opportunity Under Legal Services for Homeless Veterans and Veterans At-Risk for Homelessness Grant Program

AGENCY: Department of Veterans Affairs.

ACTION: Notice of Funding Opportunity.

SUMMARY: The Department of Veterans Affairs (VA) is announcing the availability of funds for legal services grants under the Legal Services for Homeless Veterans and Veterans At-Risk For Homelessness Grant (LSV) Program. This Notice of Funding Opportunity (NOFO) contains information concerning the LSV Program, the grant application processes and the amount of funding available. Awards made for legal services grants will fund operations beginning on or around June 1, 2023, for a period of 12 months.

DATES: Applications for legal services grants under the LSV Program must be received by LSV Program by 4 p.m. Eastern Standard Time (EST) on December 30, 2022. In the interest of fairness to all eligible applicants, as described in this NOFO, this deadline is firm as to date and hour, and VA will treat as ineligible for consideration any application that is received after the deadline. Applicants should take this practice into account and make early submissions of their materials to avoid any risk of loss of eligibility brought about by unanticipated delays, computer service outages or other submission-related problems.

ADDRESSES: For a copy of the application package: Copies of the application can be download from the LSV website at www.va.gov/homeless/lsv.asp. Questions may be referred to LSV Program via email at lsv@va.gov. For detailed LSV Program information and requirements, see part 79 of title 38, Code of Federal Regulations (38 CFR part 79).

Submission of Application Package: Applicants must submit applications electronically following instructions found at www.va.gov/homeless/lsv.asp. Applications may not be mailed, hand carried or sent by facsimile. Applications must be received by the LSV Program by 4 p.m. EST on the application deadline date. Applications must arrive as a complete package. Materials arriving separately will not be included in the application package for consideration and may result in the application being rejected. See Section II. A. of this NOFO for maximum allowable grant amounts.

Technical Assistance: Information regarding how to obtain technical assistance with preparing a legal service grant application is available on the LSV Program website at www.va.gov/homeless/lsv.asp.

SUPPLEMENTARY INFORMATION:

Funding Opportunity Title: Legal Services for Homeless-Veterans and Veterans At-Risk for Homelessness Grant.

Announcement Type: Initial.

Funding Opportunity Number: VA-VJP-LSV-H-0922.

Assistance Listing Number: 64.056, Legal Services for Homeless-Veterans and Veterans At-Risk for Homelessness Grant.

Authorizing Legislation: Public Law 116-315 Id. § 4202 of the Act, codified at § 2022A of title 38, U.S.C., directs the Secretary of VA (Secretary) to make grants to eligible entities to provide certain legal services to homeless Veterans and Veterans at risk for homelessness.

Paperwork Reduction Act of 1995: 44 U.S.C. 3501-3521 requires approval by the Office of Management and Budget (OMB).

OMB Control Number: 2900-0905.

I. Funding Opportunity Description

A. Assistance Listing Number: 64.056, Legal Services for Homeless-Veterans and Veterans At-Risk for Homelessness Grant (hyperlink added).

B. Purpose: The LSV Program's purpose is to provide legal services grants to public or non-profit private entities who will provide legal services to eligible Veterans who are homeless or at risk for homelessness. The goal of the LSV Program is to assist homeless and at-risk Veterans who have unaddressed needs for legal services, which may create barriers to housing stability. Services provided to Veterans under this NOFO are designed to help Veterans increase housing stability by providing legal services, including eviction defense, that will help Veterans avoid homelessness or help them return to permanent housing in the community.

C. Funding Priorities: This NOFO will provide awards designed to address the needs identified in 38 CFR 79.20(a), including legal services related to housing; family law; protective orders and other matters related to domestic or intimate partner violence; access to health care; requests to upgrade military discharge; consumer law, such as financial services, debt collection, garnishments, usury, fraud and financial exploitation; employment law; and the top 10 unmet legal needs as enumerated on VA's annual Community Homelessness Assessment, Local Education and Networking Groups (CHALENG) survey for the grant award year. CHALENG survey results can be found at https://www.va.gov/homeless/chaleng.asp. Funds provided through this NOFO must not duplicate or replace funds provided from any Federal, State or local government agency or program to assist homeless Veterans.

D. Definitions: 38 CFR 79.5 contains definitions of terms used in the LSV Program.

E. Authority: Funding available under this NOFO is authorized by 38 U.S.C. 2022A. VA implements the LSV Program through regulations in 38 CFR part 79. Funds made available under this NOFO are subject to the requirements of these regulations.

F. Requirements: The applicant's request for funding must be consistent with the limitation and uses of legal services grant funds outlined in 38 CFR part 79 and this NOFO. Per the regulations and this NOFO, the following requirements apply to legal services grants awarded under this NOFO:

Grantees may use a maximum of 10% of legal services grant funds for administrative costs as identified in 38 CFR 79.90. Administrative costs consist of all costs, including all direct and indirect costs, associated with the management of the program. These costs may include professional training for attorneys to provide legal services for Veterans or other activities that are not direct services. These costs also include the administrative costs of subcontractors.

G. Guidance for Providing Legal Services: Consistent with 38 CFR 79.20, grantees are expected to provide legal services relevant to issues that interfere with the participant's ability to obtain or retain permanent housing. (NOTE: Specific details of the legal services provided may be protected from being released to the grantee or VA under attorney-client privilege; however, the grantee must provide sufficient information to demonstrate the frequency and type of legal services delivered.) Support for legal services can include paying for court filing fees to assist a participant with issues that interfere with the participant's ability to obtain or retain permanent housing or legal services, including issues that affect the participant's employability and financial security.

When serving participants who are at risk for homelessness, the grantee must document that the Veteran does not have sufficient resources or support networks (e.g., friends, faith-based or other social networks) immediately available to prevent them from becoming homeless. The definition of at-risk may be demonstrated by one or more of the following living situations:

1. Has moved because of economic reasons two or more times during the 60 days immediately preceding the application for homelessness prevention assistance;

2. Is living in the home of another because of economic hardship;

3. Has been notified in writing that their right to occupy their current housing or the living situation will be terminated within 21 days after the date of application for assistance;

4. Is constructively evicted from their current housing because of untenable conditions created by the landlord such as shutting off electricity and water or discriminatory acts;

5. Lives in a hotel or motel, and the cost of the hotel or motel stay is not paid by charitable organizations or by Federal, State or local government programs for low-income individuals;

6. Lives in a single-room occupancy or efficiency apartment unit in which there reside more than two persons or lives in a larger housing unit in which reside more than 1.5 persons reside per room, as defined by the United States Census Bureau;

7. Is exiting a publicly funded institution or system of care (such as a health-care facility, a mental health facility, foster care or another youth facility, or correction program or institution);

8. Is fleeing/attempting to escape domestic violence, dating violence, sexual assault, stalking or other dangerous or life-threatening conditions that relate to violence against the individual, including a child, that has either taken place within the individual's primary nighttime residence or has made the individual afraid to return to their primary nighttime residence; and

9. Otherwise lives in housing that has characteristics associated with instability and an increased risk for homelessness.

H. Evaluation and Performance as noted in Section D. of VI. Award Administration Information of this Notice (hyperlink added).

II. Award Information

A. Allocation of Funds: Under this NOFO, approximately $11.25 million is available for grants to provide legal services to homeless Veterans or Veterans at-risk for homelessness. The LSV Program aims to provide grant funding up to a maximum of $150,000 to eligible applicants in an approximately 1-year grant cycle. The funding amount and number of awards will be determined based on the number of responses received by the VA. Funding will only be awarded to applicants who demonstrate sufficient capacity to provide legal services to homeless Veterans or Veterans at risk for homelessness. Renewal funding may be available in a future NOFO and is subject to the availability of funding.

Grants governed by this NOFO are expected to be awarded on or around June 1, 2023. Future renewal funding is dependent on such factors as need, geographical dispersion; funding availability; the recipient meeting performance goals and statutory and regulatory requirements; as well as results of VA performance measurement and monitoring.

If VA determines that grantee spending is not meeting the minimum percentage milestones identified below, VA may elect to recoup projected unused funds and reallocate funds among other grantees who are able to fully use the funds to provide legal services during the grant period. Should VA elect to recoup unspent funds, reductions in available grant funds would take effect the first business day following the end of the quarter. VA may elect to recoup funds in the following circumstances:

• The grantee's requests to VA for grant funds are less than 10% of the total grant award by the end of the first quarter of the grant cycle, no later than September 30, 2023.

• The grantee's requests to VA for grant funds are less than 30% of the total grant award by the end of the second quarter of the grant cycle, no later than December 31, 2023.

• The grantee's requests to VA for grant funds are less than 55% of the total grant award by the end of the third quarter of the grant cycle, no later than March 31, 2024.

Reductions will be calculated based on the total amount of payment requests submitted in the U.S. Department of Health and Human Services' (HHS) Payment Management System (PMS) by 5 p.m. EST on the last business day of the quarter. Should VA elect to recoup unspent funds, reductions in available grant funds would take place the second business day following the end of the quarter. If additional funds become available from funds recouped under the Award Information section of this NOFO, funds that are voluntarily returned by grantees, funds that become available due to a grant termination, or other funds still available for grant awards, VA may elect to offer these funds to other grantees. Additional funds may be provided to grantees that are in compliance with their grant agreement and have the capacity to use the additional funds, with priority given in descending order based on grantees' original application's ranking/score.

B. Funding Restrictions: Applicants may not receive funding to replace funds provided by any other Federal, State, or local government agency or program to assist homeless Veterans. VA will not fund projects or activities deemed outside the scope of those enumerated in 38 CFR 79.20 and this NOFO.

III. Eligibility Information

A. Eligibility: For purposes of this NOFO, an eligible applicant is a public or non-profit private entity as defined in 38 CFR 79.10. Applicants must have the necessary technical and administrative abilities and resources to execute the program successfully. Applicants must provide sufficient eligibility information to allow VA to evaluate their application for scoring purposes. Only eligible entities can apply in response to this NOFO.

Applicants with 501(c)(3) Internal Revenue status must provide a copy of their status determination letter received from the Internal Revenue Service. Award recipients must maintain their status as 501(c)(3) or 501(c)(19) non-profit, State or local government or recognized Indian Tribal government as defined by General Services Administration regulations, 41 CFR 105-71.102, for the entire award cycle. Faith-based organizations may apply for the LSV grant program. Faith-based organizations are eligible, on the same basis as any other organization, to participate in the LSV grant program as described in 38 CFR 79.80.

B. Cost Sharing or Matching: Cost-sharing or matching is not required for this funding opportunity.

C. Other Eligibility Criteria: System for Award Management (SAM.gov) Registration. Applicants are required to register in SAM.gov before submitting a Federal award application. Federal award recipients must continue to maintain an active SAM.gov registration with current information through the life of their Federal award.

As described in 38 CFR 79.10, this program prohibits issuing awards to entities that do not meet criteria for an eligible entity.

IV. Application and Submission Information

A. Obtaining an Application Package: Applicants must submit applications electronically following instructions found at www.va.gov/homeless/lsv.asp. VA will not accept applications by mail, in person or by facsimile. Applications must be received electronically by the LSV Program by 4 p.m. EST on the application deadline date. Applications must arrive as a complete package, and VA will not review materials arriving separately from the original application package, resulting in the application being rejected. See Section II.A. of this NOFO for maximum allowable grant amounts. The required documentation for application submission is outlined in the Application Documentation Required section of this NOFO. Forms that must be included as part of a complete application package may be downloaded directly from VA's LSV's website at www.va.gov/homeless/lsv.asp. Questions may be referred to the LSV Program at lsv@va.gov.

B. Content and Form of Application: VA is seeking to focus resources to provide legal services to Veterans who are homeless or at risk for homelessness. Applicants must submit applications electronically following instructions found at www.va.gov/homeless/lsv.asp. Applicants must include all required documents in their application submission as described in “Application Documentation Required” section (see below). VA will reject application packages that are incorrect, incomplete or incorrectly formatted.

Application Documentation Required:

1. Applicants must provide a current Employer Identification Number, Data Universal Number System number, a valid Unique Entity Identifier (UEI) if available and a SAM.gov expiration date. VA reserves the right to verify the information and reject applications if the information cannot be readily verified. Applicants are required to register in SAM.gov before applying. They must continue to maintain an active SAM.gov registration with current information for the entire time they have an active Federal award or an application under consideration.

2. VA will give preference to applicants who have a demonstrated focus on women Veterans. For a preference to be given, the applicant must provide a plan that describes how the applicant will use at least 10% of the grant funds to service eligible women Veterans.

3. VA notes that legal services grant applications must include applicants' identification of the target populations and the area or community the applicant proposes to serve.

4. Funding Restrictions: Applicants may not receive funding to replace funds provided by any other Federal, State or local government agency or program to assist homeless Veterans. VA will not fund projects or activities deemed outside the scope of those enumerated in 38 CFR 79.20 and this NOFO.

V. Application Review Information

A. Application: VA will use the following criteria to score applicants who are applying for a legal services grant:

Section A (35 maximum points): Background, Qualifications, Experience and Past Performance of Applicant and any Identified Subcontractor. VA will award points based on the background, qualifications, experience and past performance of the applicant and any subcontractors identified by the applicant in the legal services grant application, as demonstrated by the following:

(1) Background and Organizational History.

(i) Applicant's, and any identified subcontractors', background and organizational history are relevant to the program.

(ii) Applicant, and any identified subcontractors, maintain organizational structures with clear lines of reporting and defined responsibilities.

(iii) Applicant, and any identified subcontractors, have a history of complying with agreements and not defaulting on financial obligations.

(2) Staff qualifications.

(i) Applicant's staff, and any identified subcontractors' staff, have experience working with individuals who are homeless, at risk for homelessness, or who have very low income, as defined under this part.

(ii) Applicant's staff, and any identified subcontractors' staff, have experience administering programs similar to the grant program under this part.

(3) Organizational qualifications and past performance.

(i) Applicant, and any identified subcontractors, have organizational experience providing legal services to individuals who are homeless, at risk for homelessness or who have very low income as defined under this part.

(ii) Applicant, and any identified subcontractors, have organizational experience administering a program similar in type and scale to the grant program.

(iii) Applicant, and any identified subcontractors, have or plan to hire staff, who are qualified to administer legal services, and as applicable, are in good standing as a member of the applicable state bar.

(4) Experience working with Veterans.

(i) Applicant's staff, and any identified subcontractors' staff, have experience working with Veterans.

(ii) Applicant, and any identified subcontractors, have organizational experience providing legal services to Veterans.

Section B (maximum 25 points): Program Concept and Legal Services Plan. VA will award points based on the applicant's program concept and legal services plan, as demonstrated by the following:

(1) Need for program.

(i) Applicant has shown a need among eligible Veterans in the area or community where the program will be based.

(ii) Applicant understands the legal services needs unique to eligible Veterans in the area or community where the program will be based.

(2) Outreach and screening plan.

(i) Applicant has a feasible outreach and referral plan to identify and assist eligible veterans that are most in need of legal services. This plan should include how the applicant will ensure that services are provided to eligible Veterans, including women Veterans and how the applicant will use at least 10% of the grant funds to service eligible women Veterans.

(ii) Applicant has a plan to process and receive referrals from eligible Veterans.

(iii) Applicant has a plan to assess and accommodate the needs of incoming eligible Veterans.

(3) Program concept.

(i) Applicant's program concept, size, scope and staffing plan are feasible.

(ii) Applicant's program is designed to meet the legal needs of eligible Veterans in the area or community where the program will be based.

(4) Program implementation timeline.

(i) Applicant's program will be implemented in a timely manner and legal services will be delivered to eligible Veterans as quickly as possible and within a specified timeline.

(ii) Applicant has a hiring plan in place to meet the applicant's program timeline or has existing staff to meet such timeline.

(5) Collaboration and communication with VA. Applicant has a plan to coordinate outreach and services with local VA facilities.

(6) Ability to meet VA's requirements, goals and objectives for the grant program. Applicant is committed to ensuring that its program meets VA's requirements, goals and objectives for the grant program as identified in the regulation and the Purpose Section of the NOFO (hyperlink added).

(7) Capacity to undertake program. Applicant has sufficient capacity, including staff resources, to undertake the program.

Section C (maximum 15 points): Quality Assurance and Evaluation Plan. VA will award points based on the applicant's quality assurance and evaluation plan, as demonstrated by the following:

(1) Program evaluation.

(i) Applicant has created clear, realistic and measurable metrics that align with the grant program's aim of addressing the legal needs of eligible Veterans against which the applicant's program performance can be continually evaluated.

(2) Monitoring.

(i) Applicant has adequate controls in place to regularly monitor the program, including any subcontractors, for compliance with all applicable laws, regulations and guidelines.

(ii) Applicant has adequate financial and operational controls in place to ensure the proper use of legal services grant funds.

(iii) Applicant has a plan for ensuring that the applicant's staff and any subcontractors are appropriately trained and comply with the requirements of 38 CFR part 79.

(3) Remediation. Applicant has a plan to establish a system to remediate non-compliant aspects of the program if and when they are identified.

(4) Management and reporting. Applicant's program management team has the capability and a system in place to provide to VA timely and accurate reports at the frequency set by VA.

Section D (maximum 15 points): Financial Capability and Plan. VA will award points based on the applicant's financial capability and plan, as demonstrated by the following:

(1) Organizational finances. Applicant, and any identified subcontractors, are financially stable.

(2) Financial feasibility of program.

(i) Applicant has a realistic plan for obtaining all funding required to operate the program for the period of the legal services grant.

(ii) Applicant's program is cost-effective and can be effectively implemented on-budget.

Section E (maximum 10 points): Area Linkages and Relations. VA will award points based on the applicant's area or community linkages and relations, as demonstrated by the following:

(1) Area or community linkages. Applicant has a plan for developing or has existing linkages with Federal (including VA), State, local and tribal governments, agencies, and private entities for the purposes of providing additional legal services to eligible Veterans.

(2) Past working relationships. Applicant (or applicant's staff), and any identified subcontractors (or subcontractors' staff), have fostered successful working relationships and linkages with public and private organizations providing services to Veterans in need of services similar to those covered under the grant program.

(3) Local presence and knowledge.

(i) Applicant has a presence in the area or community to be served by the applicant.

(ii) Applicant understands the dynamics of the area or community to be served by the applicant.

(4) Integration of linkages and program concept. Applicant's linkages to the area or community to be served by the applicant enhance the effectiveness of the applicant's program.

B. Applicant Certifications and Assurances: Applicants must sign and submit the grant application agreeing to the following:

(1) Project Budget Template. Applicants must attach an itemized detailed budget using the approved SF 424A form and corresponding to the narrative provided in the financial capability and plan. The categories and costs included in the detailed budget must indicate the plan and demonstrate compliance with cost principles. See the Attachments section at the end of the application. Successful applicants must follow all applicable budget requirements, including the Federal cost principles in 2 CFR part 200, LSV regulations at 38 CFR part 79 and budget requirements of this NOFO.

(2) Additional Eligibility Documentation. Applicants will provide other required or optional materials as attachments, including:

(i) Budget Template (required);

(ii) Letters of coordination (optional); and

(iii) Resumes or position descriptions of key staff (required).

C. Criteria for Threshold Review: Submission of an incorrect or incomplete application package will result in the application being rejected and not considered for award. Only applications that meet threshold requirements in 38 CFR 79.30 will be scored consistent with criteria in 38 CFR 79.35.

D. Review and Selection Process: Review and selection process may be found at 38 CFR 79.40. In case of a discrepancy between information provided by the applicant and other information available to VA, VA reserves the right to make funding decisions based on all available information or to not select an application. VA also will use the following considerations in 38 CFR 79.40(d) to select applicants for funding:

(1) VA will rank those applicants who score at least 50 cumulative points and receive at least one point under each of the categories: (a) Background, Qualifications, Experience and Past Performance of Applicant and Any Identified Subcontractor, (b) Program Concept and Legal Services Plan, (c) Quality Assurance and Evaluation Plan, (d) Financial Capability and Plan and (e) Area Linkages and Relations. VA will use the ranked scores of applicants as the primary basis for selection. The applicants will be ranked in order from highest to lowest.

(2) VA will give preference to applicants who have the demonstrated ability to provide or coordinate the provision of legal services individuals who are homeless, at risk for homelessness or have very low income, as defined by this part.

(3) To the extent practicable, VA will ensure that legal services grants are equitably distributed across geographic regions, including with respect to rural communities, trust lands, Native Americans and tribal organizations.

(4) VA will give preference to applicants with a demonstrated focus on women Veterans. For such a preference to be given, the applicant must provide a plan that describes how the applicant will use at least 10% of grant funds to provide legal services to women Veterans.

E. Funding Actions: VA will provide funding to all eligible applicants in the score order described in this NOFO until funding is exhausted. Funding is not guaranteed. Before awarding a grant agreement, VA reserves the right to make adjustments (e.g., to funding levels) as needed within the intent of this NOFO based on a variety of factors, including the quantity and quality of applications, geographic dispersion, as well as the availability of funding. VA will consider any information that comes to its attention, including information in the designated integrity and performance system, in making a judgment about the applicant's integrity, business ethics and performance under Federal awards. VA may not make a Federal award to an applicant if the applicant has not complied with all applicable UEI and SAM.gov requirements. Applicants may refer to 2 CFR part 25 and SAM.gov for more information. If an applicant has not fully complied by the time the Federal awarding agency is ready to make a Federal award, the Federal awarding agency may determine that the applicant is not qualified to receive a Federal award and use that determination as a basis for making a Federal award to another applicant. VA may elect to award additional applications based on the availability of funds and quality of applications. Upon signature of the grant agreement by the Secretary, or designated representative, final selection will be completed, and the grant funds will be obligated for the funding period.

VI. Award Administration Information

A. Award Notice: Although subject to change, the LSV Program expects to announce grant awards on or around June 1, 2023. VA reserves the right to make adjustments (e.g., to funding levels) as needed within the intent of the NOFO based on a variety of factors, including the availability of funding and performance. The initial announcement will be made via a news release posted on the VA's LSV website at www.va.gov./homeless/lsv.asp.

The LSV Program will notify successful and unsuccessful applicants. Only a grant agreement with a VA signature is evidence of an award and is an authorizing document allowing costs to be incurred against a grant award. Other notices, letters or announcements are not authorizing documents. The grant agreement includes the terms and conditions of the award and must be signed by the entity and VA to be legally binding.

B. Administrative and National Policy Requirements: VA places great emphasis on responsibility and accountability. VA has procedures in place to monitor grants provided under the Legal Services for Homeless Veterans and Veterans At-Risk for Homelessness Grant. All applicants selected in response to this NOFO must agree to meet applicable inspection standards outlined in the grant agreement.

C. Payment: Grantees will receive payments electronically through HHS PMS. Grantees will have the ability to request payments as frequently as they choose subject to the following limitations:

1. During the first quarter of the grantee's legal services annualized grant award period, the grantee's cumulative requests for legal services grant funds may not exceed 35% of the total legal services grant award without written approval by the VA.

2. By the end of the second quarter of the grantee's legal services annualized grant award period, the grantee's cumulative requests for legal services grant funds may not exceed 60% of the total legal services grant award without written approval by VA.

3. By the end of the third quarter of the grantee's legal services annualized grant award period, the grantee's cumulative requests for legal services grant funds may not exceed 80% of the total legal services grant award without written approval by VA.

4. By the end of the fourth quarter of the grantee's annualized legal services grant award period, the grantee's cumulative requests for legal services grant funds may not exceed 100% of the total legal services grant award.

D. Reporting, Evaluation and Performance: VA places great emphasis on the responsibility and accountability of grantees. As described in 38 CFR 79.95, VA has procedures to monitor legal services provided to participants and outcomes associated with the legal services provided under the LSV Program. Applicants should be aware of the following:

1. Grantees will be required to track data that will consist of information on the participants served and the types of legal services provided by grantees. Information regarding legal services provided may be protected from being released to the VA under attorney-client privilege; however, the grantee must provide sufficient information to demonstrate the frequency and type of services delivered to meet performance measurement outcomes, as defined in 2 CFR 200.301.

2. VA will complete annual monitoring evaluations of each grantee. Monitoring also will include the submission of quarterly and yearly financial and performance reports by the grantee. The grantee will be expected to demonstrate adherence to the grantee's proposed program concept, as described in the grantee's application. All grantees are also subject to audits conducted by the VA or its representative.

3. Grantees will be assessed based on their ability to meet critical reporting requirements that are defined by the regulations.

VII. Federal Awarding Agency Contact

Ms. Madolyn Gingell, National Coordinator, Legal Services for Veterans, Madolyn.Gingell@va.gov.

Signing Authority:

Denis McDonough, Secretary of Veterans Affairs, approved this document on September 29, 2022, and authorized the undersigned to sign and submit the document to the Office of the Federal Register for publication electronically as an official document of the Department of Veterans Affairs.

Jeffrey M. Martin,
Assistant Director, Office of Regulation Policy & Management, Office of General Counsel, Department of Veterans Affairs.

[FR Doc. 2022-21603 Filed 10-5-22; 8:45 am]

BILLING CODE 8320-01-P